DEPARTMENT OF AGRICULTURE

Forest Service

Klamath National Forest; California; Pumice Vegetation Management Project

AGENCY: Forest Service, USDA.

ACTION: Withdrawal of notice of intent to prepare an Environmental Impact Statement.

SUMMARY: The Klamath National Forest is withdrawing its Notice of Intent (NOI) to prepare an Environmental Impact Statement (EIS) for the Pumice Vegetation Management Project. The original NOI was published in the Federal Register on November 9, 2011. No significant issues were identified during this scoping period or any other opportunity to comment. Upon further evaluation, no potential significant impacts to the human environment are associated with the project. As a result, the Forest is withdrawing its intent to prepare an EIS and is now preparing an Environmental Assessment (EA). All comments previously received regarding this project will be retained and considered in the development of the EA. If it is determined that the project may have significant impacts, the EIS process will be reinitiated and a NOI will be published.

FOR FURTHER INFORMATION CONTACT: Questions concerning this notice and requests to be added to the project mailing list should be directed to Travis Coughlin via mail at Goosenest Ranger District, 37805 Highway 97, Macdoel, CA 96058; via telephone at 530-398-5790; or via email at tcoughlin02@fs.fed.us. Individuals who have previously submitted comments on this project will remain on the project mailing list and do not need to contact the Forest.

Dated: April 11, 2019.
Allen Rowley,
Acting Associate Deputy Chief, National Forest System.

[FR Doc. 2019-09310 Filed 5-6-19; 8:45 am]

BILLING CODE 3411-15-P